DEPARTMENT OF TRANSPORTATION

Federal Aviation Administration

14 CFR Part 39

[Docket No. 2002-CE-45-AD]

RIN 2120-AA64

Airworthiness Directives; Raytheon Aircraft Company 90, 100, and 200 Series Airplanes

AGENCY: Federal Aviation Administration, DOT.

ACTION: Notice of proposed rulemaking (NPRM).

SUMMARY: This document proposes to adopt a new airworthiness directive (AD) that would apply to certain Raytheon Aircraft Company (Raytheon) 90, 100, and 200 series airplanes. This proposed AD would require you to inspect the forward side of the aft pressure bulkhead for scoring damage and repair, if necessary. This proposed AD is the result of reports of the aft pressure bulkhead being damaged by scoring during manufacture. The actions specified by this proposed AD are intended to detect and correct damage to the aft pressure bulkhead of the fuselage. Such damage could lead to fatigue failure of the bulkhead.

DATES: The Federal Aviation Administration (FAA) must receive any comments on this proposed rule on or before April 23, 2003.

ADDRESSES: Submit comments to FAA, Central Region, Office of the Regional Counsel, Attention: Rules Docket No. 2002-CE-45-AD, 901 Locust, Room 506, Kansas City, Missouri 64106. You may view any comments at this location between 8 a.m. and 4 p.m., Monday through Friday, except Federal holidays. You may also send comments electronically to the following address: 9-ACE-7-Docket@faa.gov. Comments sent electronically must contain “Docket No. 2002-CE-45-AD” in the subject line. If you send comments electronically as attached electronic files, the files must be formatted in Microsoft Word 97 for Windows or ASCII text.

You may get service information that applies to this proposed AD from Raytheon Aircraft Company, 9709 E. Central, Wichita, Kansas 67201-0085; telephone: (800) 429-5372 or (316) 676-3140. You may also view this information at the Rules Docket at the address above.

FOR FURTHER INFORMATION CONTACT: Mr. Steven E. Potter, Aerospace Engineer, Wichita Aircraft Certification Office, FAA, 1801 Airport Road, Wichita, Kansas 67209; telephone: (316) 946-4124; facsimile: (316) 946-4407.

SUPPLEMENTARY INFORMATION:

Comments Invited

How do I comment on this proposed AD? The FAA invites comments on this proposed rule. You may submit whatever written data, views, or arguments you choose. You need to include the rule's docket number and submit your comments to the address specified under the caption ADDRESSES. We will consider all comments received on or before the closing date. We may amend this proposed rule in light of comments received. Factual information that supports your ideas and suggestions is extremely helpful in evaluating the effectiveness of this proposed AD action and determining whether we need to take additional rulemaking action.

Are there any specific portions of this proposed AD I should pay attention to? The FAA specifically invites comments on the overall regulatory, economic, environmental, and energy aspects of this proposed rule that might suggest a need to modify the rule. You may view all comments we receive before and after the closing date of the rule in the Rules Docket. We will file a report in the Rules Docket that summarizes each contact we have with the public that concerns the substantive parts of this proposed AD.

How can I be sure FAA receives my comment? If you want FAA to acknowledge the receipt of your mailed comments, you must include a self-addressed, stamped postcard. On the postcard, write “Comments to Docket No. 2002-CE-45-AD.” We will date stamp and mail the postcard back to you.

Discussion

What events have caused this proposed AD? The FAA has received reports that during manufacturing, nine aft pressure bulkheads of Raytheon 90, 100, and 200 series airplanes may have been damaged by scribing or knife marks (scoring).

What are the consequences if the condition is not corrected? The damage to the aft pressure bulkhead may cause fatigue failure of the bulkhead.

Is there service information that applies to this subject? Raytheon has issued Service Bulletin No. SB 53-3513, Revision 1, Issued May 2002, Revised October 2002.

What are the provisions of this service information? The service bulletin includes procedures for:

—Inspecting the forward side of the aft pressure bulkhead for scoring damage; and

—Repairing, if required, the forward side of the aft pressure bulkhead.

The FAA's Determination and an Explanation of the Provisions of this Proposed AD

What has FAA decided? After examining the circumstances and reviewing all available information related to the incidents described above, we have determined that:

—The unsafe condition referenced in this document exists or could develop on other Raytheon 90, 100, and 200 series airplanes of the same type design;

—The actions specified in the previously-referenced service information should be accomplished on the affected airplanes; and

—AD action should be taken in order to correct this unsafe condition.

What would this proposed AD require? This proposed AD would require you to incorporate the actions in the previously-referenced service bulletin.

Cost Impact

How many airplanes would this proposed AD impact? We estimate that this proposed AD affects 3,223 airplanes in the U.S. registry.

What would be the cost impact of this proposed AD on owners/operators of the affected airplanes? We estimate the following costs to accomplish the proposed inspection of the forward side of the aft pressure bulkhead:

Labor cost | Parts cost | Total cost per airplane | Total cost on U.S. operators
8 workhours × $60 per hour = $480 | Not applicable | $480 | $1,547,040

We estimate the following costs to accomplish any necessary repairs that would be required based on the results of the proposed inspection. We have no way of determining the number of airplanes that may need such repair of the forward side of the aft pressure bulkhead:

Labor cost | Parts cost | Total cost per airplane
16 workhours × $60 per hour = $960 | $25 | $985

Compliance Time of This Proposed AD

What would be the compliance time of this proposed AD? The compliance time of this proposed AD is within the next 6 calendar months after the effective date of this AD.

Why is the proposed compliance time presented in calendar time instead of hours time-in-service (TIS)? This unsafe condition is not a result of the number of times the airplane is operated. The chance of this situation occurring is the same for an airplane with 10 hours TIS as it would be for an airplane with 500 hours TIS. For this reason, FAA has determined that a compliance based on calendar time should be utilized in this AD in order to ensure that the unsafe condition is addressed on all airplanes in a reasonable time period.

Regulatory Impact

Would this proposed AD impact various entities? The regulations proposed herein would not have a substantial direct effect on the States, on the relationship between the national government and the States, or on the distribution of power and responsibilities among the various levels of government. Therefore, it is determined that this proposed rule would not have federalism implications under Executive Order 13132.

Would this proposed AD involve a significant rule or regulatory action? For the reasons discussed above, I certify that this proposed action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

Raytheon Aircraft Company: Docket No. 2002-CE-45-AD

(a) What airplanes are affected by this AD? This AD affects the following airplane models and serial numbers that are certificated in any category;

Model | Serial Nos.
(1) 65-90, 65-A90, B90, C90, and C90A | LJ-1 through LJ-1287, LJ-1289 through LJ-1294, and LJ-1296 through LJ-1299.
(2) E90 | LW-1 through LW-347.
(3) F90 | LA-2 through LA-236.
(4) H90 (T-44A) | LL-1 through LL-61.
(5) 100 and A100 | B-2 through B-89, B-93, and B-100 through B-247.
(6) A100 (U-21F) | B-1, B-90 through B-92, and B-94 through B-99.
(7) A100-1 (U-21J) | BB-3 through BB-5.
(8) A200 (C-12A) and (C-12C) | BC-1 through BC-61, BC-62 through BC-75, and BD-1 through BD-30.
(9) A200C (UC-12B) | BJ-1 through BJ-66.
(10) A200CT (C-12D) | BP-1, BP-19, and BP-24 through BP-51.
(11) A200CT (C-12F) | BP-52 through BP-63.
(12) B200C (C-12F) | BP-64 through BP-71, BL-73 through BL-112, and BL-118 through BL-123.
(13) A200CT (FWC-12D) | BP-7 through BP-11.
(14) A200CT (RC-12D) | GR-1 through GR-12.
(15) A200CT (RC-12G) | FC-1 through FC-3.
(16) A200CT (RC-12H) | GR-14 through GR-19.
(17) A200CT (RC-12K) | FE-1 through FE-9.
(18) A200CT (RC-12P) | FE-25 through FE-31, FE-33, and FE-35.
(19) A200CT (RC-12Q) | FE-32, FE-34, and FE-36.
(20) B100 | BE-1 through BE-137.
(21) B200C | BL-37 through BL-57, BL-61 through BL-72, and BL-124 through BL-138.
(22) 200C | BL-1 through BL-23, BL-26 through BL-36.
(23) B200C (C-12F) | BP-64 through BP-71, BL-73 through BL-112, and BL-118 through BL-123.
(24) B200C (C-12R) | BW-1 through BW-29.
(25) B200C (UC-12F) | BU-1 through BU-10.
(26) B200C (UC-12M) | BV-1 through BV-10.
(27) B200CT and 200CT | BN-1 through BN-4.
(28) B200T and 200T | BT-1 through BT-34, and BB-1314.
(29) 200 | BB-2, BB-6 through BB-185, BB-187 through BB-202, BB-204 through BB-269, BB-271 through BB-407, BB-409 through BB-468, BB-470 through BB-488, BB-490 through BB-509, BB-511 through BB-529, BB-531 through BB-550, BB-552 through BB-562, BB-564 through BB-572, BB-574 through BB-590, BB-592 through BB-608, BB-610 through BB-626, BB-628 through BB-646, BB-648 through BB-664, BB-666 through BB-694, BB-696 through BB-733, BB-735 through BB-792, BB-794 through BB-797, BB-799 through BB-822, BB-825 through BB-828, BB-830 through BB-853, BB-872, BB-873, BB-892, BB-893, and BB-912.
(30) B200 | BB-734, BB-793, BB-829, BB-854 through BB-870, BB-874 through BB-891, BB-894, BB-896 through BB-911, BB-913 through BB-990, BB-992 through BB-1051, BB-1053 through BB-1092, BB-1094, BB-1099 through BB-1104, BB-1106 through BB-1116, BB-1118 through BB-1184, BB-1186 through BB-1263, BB-1265 through BB-1288, BB-1290 through BB-1300, BB-1302 through BB-1313, BB-1315 through BB-1384, BB-1389 through BB-1425, BB-1427 through BB-1438, and BB-1440 through BB-14443.

(b) Who must comply with this AD? Anyone who wishes to operate any of the airplanes identified in paragraph (a) of this AD must comply with this AD.

(c) What problem does this AD address? The actions specified by this AD are intended to detect and correct damage to the aft pressure bulkhead of the fuselage. Such damage could lead to fatigue failure of the bulkhead.

(d) What actions must I accomplish to address this problem? To address this problem, you must accomplish the following:

Actions | Compliance | Procedures
(1) Inspect the forward side of the aft pressure bulkhead for scoring damage | Within the next 6 calendar months after the effective date of this AD, unless already accomplished | In accordance with the Accomplishment Instructions of Raytheon Aircraft Mandatory Service Bulletin No.: SB 53-3513, Rev. 1, dated: October 2002.
(2) If scoring damage is found, repair as specified in the Raytheon Aircraft Mandatory Service Bulletin No.: SB 53-3513, Rev. 1, dated: October 2002. As applicable, obtain a repair scheme from the manufacturer through FAA at the address specified in paragraph (f) of this AD and incorporate this repair scheme | Prior to further flight after the inspection required in paragraph (d)(1) of this AD, unless already accomplished | In accordance with the Accomplishment Instructions of Raytheon Aircraft Mandatory Service Bulletin No.: SB 53-3513, Rev. 1, dated: October 2002. As applicable, repair in accordance with a repair scheme obtained from Raytheon Aircraft Company. Obtain this repair scheme through FAA at the address specified in paragraph (f) of this AD.

(e) Can I comply with this AD in any other way? You may use an alternative method of compliance or adjust the compliance time if:

(1) Your alternative method of compliance provides an equivalent level of safety; and

(2) The Manager, Wichita Aircraft Certification Office (ACO), approves your alternative. Submit your request through an FAA Principal Maintenance Inspector, who may add comments and then send it to the Manager, Wichita ACO.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Mr. Steven E. Potter, Aerospace Engineer, Wichita Aircraft Certification Office, FAA, 1801 Airport Road, Wichita, Kansas 67209; telephone: (316) 946-4124; facsimile: (316) 946-4407.

(g) What if I need to fly the airplane to another location to comply with this AD? The FAA can issue a special flight permit under sections 21.197 and 21.199 of the Federal Aviation Regulations (14 CFR 21.197 and 21.199) to operate your airplane to a location where you can accomplish the requirements of this AD.

(h) How do I get copies of the documents referenced in this AD? You may get copies of the documents referenced in this AD from Raytheon Aircraft Company, 9709 E. Central, Wichita, Kansas 67201-0085; telephone: (800) 429-5372 or (316) 676-3140. You may view these documents at FAA, Central Region, Office of the Regional Counsel, 901 Locust, Room 506, Kansas City, Missouri 64106.

Issued in Kansas City, Missouri, on February 7, 2003.
Dorenda D. Baker,
Acting Manager, Small Airplane Directorate, Aircraft Certification Service.

[FR Doc. 03-3611 Filed 2-13-03; 8:45 am]

BILLING CODE 4910-13-P